FEDERAL MARITIME COMMISSION

Sunshine Act Meeting

AGENCY HOLDING THE MEETING: Federal Maritime Commission.

TIME AND DATE: November 3, 2011-10 a.m.

PLACE: 800 North Capitol Street NW., First Floor Hearing Room, Washington, DC.

STATUS: A part of the meeting will be in Open Session and the remainder of the meeting will be in Closed Session.

MATTERS TO BE CONSIDERED:

Open

1. Staff Briefing and Recommendation Concerning Publication of Inaccurate or Inactive Ocean Common Carrier Tariffs—Show Cause Order.

2. Staff Briefing Concerning Non-Compliance with Commission Order on Special Reporting Requirements for the Transpacific Stabilization Agreement and the Westbound Transpacific Stabilization Agreement.

Closed

1. Discussion on Non-Compliance with Commission Order on Special Reporting Requirements for the Transpacific Stabilization Agreement and the Westbound Transpacific Stabilization Agreement.

CONTACT PERSON FOR MORE INFORMATION: Karen V. Gregory, Secretary, (202) 523-5725.

Karen V. Gregory,
Secretary.

[FR Doc. 2011-28283 Filed 10-27-11; 4:15 pm]

BILLING CODE 6730-01-P